DEPARTMENT OF VETERANS AFFAIRS

38 CFR Parts 3 and 4

RIN 2900-AE91

Schedule for Rating Disabilities; the Musculoskeletal System

AGENCY: Department of Veterans Affairs.

ACTION: Proposed rule; withdrawal.

SUMMARY: The Department of Veterans Affairs (VA) is withdrawing its proposal to amend that portion of its Schedule for Rating Disabilities that addresses musculoskeletal conditions, and related regulations, published in the Federal Register on February 11, 2003 (68 FR 6998). Nine commenters responded, raising numerous issues. VA has considered the issues and believes a new proposal is appropriate. Accordingly, VA is withdrawing the proposal and is developing a new proposal, which it intends to publish at a later date.

FOR FURTHER INFORMATION CONTACT: Audrey Tomlinson, Medical Officer, Policy and Regulations Staff (211A), Compensation and Pension Service, Veterans Benefits Administration, Department of Veterans Affairs, 810 Vermont Ave., NW., Washington, DC 20420, (202) 273-7215.

Approved: March 5, 2004.
Anthony J. Principi,
Secretary of Veterans Affairs.

[FR Doc. 04-9471 Filed 4-26-04; 8:45 am]

BILLING CODE 8320-01-P